DEPARTMENT OF HEALTH AND HUMAN SERVICES

Centers for Disease Control and Prevention

[60Day-05-0260]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Sandi Gambescia, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Health Hazard Evaluation/Technical Assistance and Emerging Problems (OMB No. 0920-0260)—Revision—National Institute for Occupational Safety and Health (NIOSH), Centers for Disease Control and Prevention (CDC).

Each year, in accordance with its mandates under the Occupational Safety and Health Act of 1970 and the Federal Mine Safety and Health Act of 1977, the National Institute for Occupational Safety and Health (NIOSH) responds to approximately 450 requests for health hazard evaluations to identify potential chemical, biological or physical hazards at the workplace. To comprehensively evaluate hazards in response to a request for a health hazard evaluation, NIOSH frequently conducts an on-site evaluation. The main purpose of an on-site evaluation is to help employers and employees identify and eliminate occupational health hazards. The interview and questionnaires are specific to each workplace and its suspected diseases(s) and hazards. The questionnaires are composed of items that were developed from standard medical and epidemiologic techniques.

A printed NIOSH form is available in English and in Spanish for requesting these health hazard evaluations. The form is also available on the Internet and differs from the printed version only in format and in the fact that it uses an Internet address to which recipients can submit the form to NIOSH. Both the printed and Internet versions of the form provide the mechanism for employees, employers, and other authorized representatives to supply the information required by the regulations which govern the NIOSH health hazard evaluation program (42 CFR 85.3-1). In general, if employees are submitting the form it must contain the signatures of three or more current employees. However, regulations allow a single signature if the requestor is one of three or fewer employees in the process, operation, or job of concern. The form for requesting a health hazard evaluation is currently approved by OMB under the information collection 0920-0102, “Contents of a Request for a Health Hazard Evaluation.” CDC would like to merge the form approved under 0920-0102 into 0920-0260, “Health Hazard Evaluation/Technical Assistance and Emerging Problems.” This would consolidate two data collection systems into one.

The information provided on the Request for a Health Hazard Evaluation form is used by NIOSH to determine whether there is reasonable cause to justify conducting an investigation. Without the information requested on this form, NIOSH would be unable to perform its legislated function of conducting health hazard evaluations in workplaces. There is no cost to respondents to obtain this form or to request a health hazard evaluation, except their time in completing the form. The additional burden for the Request for Health Hazard Evaluation form is 90 hours per year.

Annualized Burden Table
Respondents | No. of respondents | No. of responses per respondent | Avg. burden per response (in hrs.) | Total burden hours
Employees and representatives | 290 | 1 | 12/60 | 58
Employers | 160 | 1 | 12/60 | 32
Total | 450 |  |  | 90

Dated: November 12, 2004.
B. Kathy Skipper,
Acting Director, Management Analysis and Services Office, Centers for Disease Control and Prevention.

[FR Doc. 04-26021 Filed 11-23-04; 8:45 am]

BILLING CODE 4163-18-P